NUCLEAR REGULATORY COMMISSION

[NRC-2011-0093; Docket No. 50-400]

Carolina Power And Light Company; Notice of Withdrawal of Application for Amendment to Renewed Facility Operating License

The U.S. Nuclear Regulatory Commission (NRC, the Commission) has granted the request of the Carolina Power and Light Company (the licensee) to withdraw its application dated March 28, 2010, as supplemented by letter dated December 9, 2010, for a proposed amendment to Renewed Facility Operating License No. NPF-63 for the Shearon Harris Nuclear Power Plant, Unit 1, located in Wake County, North Carolina.

The proposed amendment would have modified revise Technical Specification Section 6.9.1.6 to add the NRC-approved topical report, EMF-2103(P)(A), Revision 0, “Realistic Large-Break LOCA [Loss-of-Coolant Accident] Methodology for Pressurized Water Reactors,” to the Core Operating Limits Report methodologies list. This change would have allowed the use of the thermal-hydraulic computer analysis code S-RELAP5 for the Final Safety Analysis Report (FSAR) Chapter 15 realistic large-break LOCA in the Shearon Harris Nuclear Power Plant, Unit 1 safety analyses. Topical Report, EMF-2103(P)(A), Revision 0, was approved by the NRC on April 9, 2003, for the application of the S-RELAP5 thermal-hydraulic analysis computer code to FSAR Chapter 15 realistic large-break LOCA.

The Commission had previously issued a Notice of Consideration of Issuance of Amendment published in the Federal Register on June 8, 2010, (75 FR 32511). However, by letter dated March 28, 2011, the licensee withdrew the proposed change.

For further details with respect to this action, see the application for amendment dated March 23, 2010 (Agencywide Documents Access and Management System (ADAMS) Accession No. ML100890594), as supplemented by letter dated December 6, 2010 (ADAMS Accession No. ML103500470), and the licensee's letter dated March 28, 2011, which withdrew the application for license amendment.

Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland this 20th day of April 2011.
For the Nuclear Regulatory Commission.
Brenda Mozafari,
Senior Project Manager, Plant Licensing Branch II-2, Division of Operating Reactor Licensing, Office of Nuclear Reactor Regulation.

[FR Doc. 2011-10276 Filed 4-27-11; 8:45 am]

BILLING CODE 7590-01-P